DEPARTMENT OF DEFENSE

GENERAL SERVICES ADMINISTRATION

NATIONAL AERONAUTICS AND SPACE ADMINISTRATION

[OMB Control No. 9000-0064; Docket 2017-0053; Sequence 16]

Information Collection; Organization and Direction of Work

AGENCY: Department of Defense (DOD), General Services Administration (GSA), and National Aeronautics and Space Administration (NASA).

ACTION: Notice of request for public comments regarding an extension to an existing OMB clearance.

SUMMARY: Under the provisions of the Paperwork Reduction Act, the Regulatory Secretariat Division will be submitting to the Office of Management and Budget (OMB) a request to review and approve an extension of a previously approved information collection requirement concerning organization and direction of work.

DATES: Submit comments on or before January 2, 2018.

ADDRESSES: Submit comments identified by Information Collection 9000-0064, Organization and Direction of Work, by any of the following methods:

• Regulations.gov: http://www.regulations.gov. Submit comments via the Federal eRulemaking portal by searching the OMB Control number 9000-0064. Select the link “Comment Now” that corresponds with “Information Collection 9000-0064, Organization and Direction of Work”. Follow the instructions provided on the screen. Please include your name, company name (if any), and “Information Collection 9000-0064, Organization and Direction of Work”, on your attached document.

• Mail: General Services Administration, Regulatory Secretariat Division (MVCB), 1800 F Street NW., Washington, DC 20405-0001. ATTN: Ms. Mandell/IC 9000-0064, Organization and Direction of Work.

Instructions: Please submit comments only and cite Information Collection 9000-0064, Organization and Direction of Work, in all correspondence related to this collection. All comments received will be posted without change to http://www.regulations.gov, including any personal and/or business confidential information provided.

FOR FURTHER INFORMATION CONTACT: Mr. Curtis E. Glover, Sr. Procurement Analyst, Federal Acquisition Policy Division, GSA, telephone 202-501-1448, or via email at curtis.glover@gsa.gov.

SUPPLEMENTARY INFORMATION:

A. Purpose

When the Government awards a cost-reimbursement construction contract, the contractor must submit to the contracting officer—and keep current a chart showing the general executive and administrative organization—the personnel to be employed in connection with the work under the contract, and their respective duties. The chart is used in the administration of the contract and as an aid in determining cost. The chart is used by contract administration personnel to assure the work is being properly accomplished at reasonable prices. The burden hours under FAR 52.236-19 were reduced based on FY 2017 FPDS data that showed the actual number of respondents for this type of requirement.

B. Annual Reporting Burden

Respondents: 19.

Responses per Respondent: 1.

Annual Responses: 19.

Hours per Response: .75.

Total Burden Hours: 14.

C. Public Comments

Public comments are particularly invited on: Whether this collection of information is necessary for the proper performance of functions of the FAR, and whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

Obtaining Copies of Proposals: Requesters may obtain a copy of the information collection documents from the General Services Administration, Regulatory Secretariat Division (MVCB), 1800 F Street NW., Washington, DC 20405, telephone 202-501-4755. Please cite OMB Control No. 9000-0064, Organization and Direction of Work, in all correspondence.

Dated: October 31, 2017.
Lorin S. Curit,
Director, Federal Acquisition Policy Division, Office of Government-wide Acquisition Policy, Office of Acquisition Policy, Office of Government-wide Policy.

[FR Doc. 2017-23981 Filed 11-2-17; 8:45 am]

BILLING CODE 6820-EP-P